DEPARTMENT OF TRANSPORTATION

Federal Aviation Administration

Notice of Intent To Request Renewal From the Office of Management and Budget (OMB) of One Current Public Collection of Information

AGENCY: Federal Aviation Administration (FAA), DOT.

ACTION: Notice.

SUMMARY: In compliance with the Paperwork Reduction Act (44 U.S.C. 3501 et seq.), the FAA invites public comment on one currently approved public information collection which will be submitted to OMB for renewal.

DATES: Comments must be received on or before (January 18, 2005).

ADDRESSES: Comments may be mailed or delivered to the FAA at the following address: Ms. Judy Street, Room 612, Federal Aviation Administration, Standards and Information Division, APF-100, 800 Independence Ave., SW., Washington, DC 20591.

FOR FURTHER INFORMATION CONTACT: Ms. Judith D. Street at the above address, on (202) 267-9895, or by e-mail at: Judy.Street@faa.gov.

SUPPLEMENTARY INFORMATION: In accordance with the Paperwork Reduction Act of 1995, an agency may not conduct or sponsor, and a person is not required to respond to a collection of information unless it displays a currently valid OMB control number. Therefore, the FAA solicits comments on the following current collection of information. Comments should evaluate the necessity of the collection, the accuracy of the agency's estimate of the burden, the quality, utility, and clarity of the information to be collected, and possible ways to minimize the burden of the collection.

1. 2120-0570, Certificated Training Centers-Simulator Rule, Part 142. To determine regulatory compliance, there is a need for airmen to maintain records of certain training and recency of experience; there is a need for training centers to maintain records of students' training, employee qualification and training, and training program approvals. Information is used to determine compliance with airman certification and testing to ensure safety. The current estimated annual reporting burden is 6,822 hours.

Issued in Washington, DC, on November 8, 2004.
Judith D. Street,
FAA Information Collection Clearance Officer, APF-100.

[FR Doc. 04-25418 Filed 11-15-04; 8:45 am]

BILLING CODE 4910-13-M